DEPARTMENT OF THE INTERIOR

Geological Survey

[GR21EG51TJ50200; OMB Control Number 1028-NEW]

Agency Information Collection Activities; Submission to the Office of Management and Budget for Review and Approval: National Digital Trails Project—Trail Data Portal

AGENCY: Geological Survey, Interior.

ACTION: Notice of information collection; request for comment.

SUMMARY: In accordance with the Paperwork Reduction Act of 1995 (PRA, 44 U.S.C. 3501 et seq.), the U.S. Geological Survey (USGS) is proposing a new information collection.

DATES: Interested persons are invited to submit comments on or before June 21, 2022.

ADDRESSES: Written comments and recommendations for the proposed information collection should be sent within 30 days of publication of this notice to www.reginfo.gov/public/do/PRAMain. Find this particular information collection by selecting “Currently under 30-day Review—Open for Public Comments” or by using the search function. Comments may also be sent by mail to the U.S. Geological Survey, Information Collections Officer, 12201 Sunrise Valley Drive, MS 159, Reston, VA 20192; or by email to gs-info_collections@usgs.gov. Please reference OMB Control Number 1028-NEW in the subject line of your comments.

FOR FURTHER INFORMATION CONTACT: To request additional information about this Information Collection Request (ICR), contact Tatyana DiMascio by email at tdimascio@usgs.gov, or by telephone at (303) 202-4206. You may also view the ICR at http://www.reginfo.gov/public/do/PRAMain. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 1, 2021 (86 FR 29279). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract

A major component of the Department of Interior's vision is to “Increase access to outdoor recreation opportunities for all Americans so that our people can be healthier, more fully enjoy the wonderful features of their federal lands, and take advantage of hunting, fishing, and other outdoor recreation pursuits that are the roots of the conservation movement.” At the direction of DOI, the USGS is advancing that vision with the launch of the National Digital Trails (NDT) project. The two-year project consists of three major goals:

1. Develop a web-based geospatial analysis tool, called Trail Routing Analysis and Information Linkage System (TRAILS), to assist Federal land managers in identifying and prioritizing candidate trails to be connected to existing trails and trail networks.

2. Aid in the creation of a robust nationwide digital trails dataset including, at a minimum, trails on lands managed by key Federal agencies including the Bureau of Land Management, National Park Service, U.S. Fish and Wildlife Service, and U.S. Forest Service.

3. Develop a mobile responsive application that will assist trail stewards, land management agencies, and members of the public in the maintenance of trails information.

This information collection request focuses on Goal 2, the digital trails dataset. The Trail Data Portal will support development and maintenance of the robust USGS nationwide digital trails dataset (Goal 2). In turn, the dataset is a primary component of the TRAILS geospatial analysis tool (Goal 1) which provides DOI bureaus and trail managers a tool to improve trail connectivity throughout the Nation's public lands.

The Trail Data Portal will facilitate an efficient digital trails data submission process and communication between the USGS and data providers. Authoritative trail managers will be able to log in to submit their trails data, along with relevant information, for USGS review and integration into the USGS digital trails dataset. USGS staff will be able to log in to download the submitted data, perform preliminary assessment, and provide status updates for every trail data submission. No data edits or integration will take place within the Trail Data Portal.

The following information will be collected for every authoritative data provider that submits trails data for USGS integration: Name, email, and organization. This information will allow the USGS to identify an appropriate point of contact for every data source in the USGS digital trails dataset. It may be necessary for the USGS to reach this contact to provide status updates, clarify data discrepancies, or obtain the latest trails data to perform updates to the USGS digital trails dataset.

Title of Collection: National Digital Trails Project—Trail Data Portal.

OMB Control Number: 1028-NEW.

Form Number: None.

Type of Review: New.

Respondents/Affected Public: Federal, state or local government agencies; nonprofit organizations.

Total Estimated Number of Annual Respondents: 100.

Total Estimated Number of Annual Responses: 100.

Estimated Completion Time per Response: 26 minutes.

Total Estimated Number of Annual Burden Hours: 43.

Respondent's Obligation: Voluntary.

Frequency of Collection: Occasional.

Total Estimated Annual Non-Hour Burden Cost: None.

An agency may not conduct or sponsor, nor isa person required to respond to, a collection of information unless it displays a currently valid OMB control number.

The authority for this action is the Paperwork Reduction Act of 1995 (44 U.S.C. 3501 et seq.).

David Brostuen,
Director, National Geospatial Technical Operations Center, U.S. Geological Survey.

[FR Doc. 2022-10799 Filed 5-19-22; 8:45 am]

BILLING CODE P